DEPARTMENT OF DEFENSE

Department of the Army

Final Environmental Impact Statement (FEIS) for Schofield Barracks Wastewater Treatment Plant Effluent Treatment and Disposal, Oahu, HI

AGENCY: Department of the Army, DoD.

ACTION: Notice of availability.

SUMMARY: This announces the availability of the FEIS, which assesses the effects of implementing a system to treat and dispose of wastewater effluent from Schofield Barracks, Wheeler Army Airfield, and adjacent military lands.

Under the lead alternative, the Army would improve its Schofield Barracks Wastewater Treatment Plant to provide a higher quality effluent that would meet new State of Hawaii guidelines for effluent reuse. Part of the effluent would be used to irrigate two Army golf courses on Schofield Barracks. The balance would then be provided for irrigation reuse to Dole Foods Corporation and possibly other agricultural interests in Central Oahu. Wet weather discharge would be into Lake Wilson, an agricultural reservoir owned by Dole Foods Corporation. The lead alternative would preclude the construction of a long pipeline to the coastline and avoid disposal into the ocean.

Other alternatives considered by the FEIS included the no action alternative, which would limit the use of the Army effluent under the State of Hawaii guidelines for effluent reuse, and a joint project with the City and County of Honolulu (CCH), which would require construction of a new 14-mile pipeline from Central Oahu to the CCH's Honouliuli Wastewater Treatment Plant at the Ewa area.

None of the alternatives considered, with the possible exception of the no action alternative, are anticipated to have significant environmental impact. The Army's lead alternative provides the most potential for effluent reuse in Central Oahu.

DATES: Written comments received within 30 days of the publication of the Environmental Protection Agency's Notice of Availability for this action will be considered by the Army during final decision making.

ADDRESSES: To obtain a copy of the FEIS, contact Mr. Edward Yamada, U.S. Army Engineer District, Honolulu, ATTN: CEPOH-ED-E, Fort Shafter, HI 96858-5440; telephone: (808) 438-5421; FAX: (808) 438-7801.

FOR FURTHER INFORMATION CONTACT: Mr. Alvin Char, 25th Infantry Division (Light) and U.S. Army Garrison Hawaii, ATTN: APVG-GWV, Schofield Barracks, Hawaii 96857-5013; Telephone: (808) 656-2878, ext. 1062, and Fax (808) 656-1039.

SUPPLEMENTARY INFORMATION: Public scoping meetings and public meetings were held after distribution of the DEIS. All interested individuals, private organizations, and government agencies were encouraged to provide input into the EIS review process. All comments received were addressed and included in the FEIS.

Coordination was undertaken with adjoining land owners; the U.S. Environmental Protection Agency; other Federal agencies; State of Hawaii agencies such as the Departments of Health, Land and Natural Resources, Transportation, Business and Economic Development, Offices of State Planning, and Environmental Quality Control; City and County of Honolulu agencies such as Board of Water Supply, Departments of Public Works, Land Utilization, and General Planning; and organizations such as the Mililani and Wahiawa Neighborhood Boards.

Dated: May 15, 2000.
Raymond J. Fatz,
Deputy Assistant Secretary of the Army, (Environment, Safety and Occupational Health) OASA (I&E).

[FR Doc. 00-12562 Filed 5-17-00; 8:45 am]

BILLING CODE 3710-08-M